DEPARTMENT OF THE INTERIOR

Fish and Wildlife Service

Proposed Programmatic Safe Harbor Agreement for the Oregon Silverspot Butterfly Along the Central Coast, Lane County, OR

AGENCY: Fish and Wildlife Service, Interior.

ACTION: Notice of availability; receipt of application.

SUMMARY: The Nature Conservancy (TNC) has applied to the U.S. Fish and Wildlife Service (Service) for an enhancement of survival permit pursuant to section 10(a)(1)(A) of the Endangered Species Act of 1973, as amended (Act). The permit application includes a proposed Safe Harbor Agreement (Agreement) between TNC and the Service. The proposed term of the permit and Agreement is 35 years. The requested permit would authorize TNC and private landowners to carry out habitat management measures that would benefit the federally-listed as threatened Oregon silverspot butterfly (Speyeria zerene hippolyta). The covered area or geographic scope of this Agreement includes all non-Federal properties on the central coast of Oregon located in whole or in part within the approximately 7-mile corridor along the central coast between Bray Point and Big Creek in Lane County, Oregon. We request comments from the public on the permit application, proposed Agreement, and related documents, all of which are available for review.

DATES: Comments must be received from interested parties on or before December 11, 2006. The final permit decision will be made no sooner than December 11, 2006.

ADDRESSES: You may obtain copies of the documents for review by contacting Richard Szlemp, U.S. Fish and Wildlife Service, 2600 SE. 98th Ave., Suite 100, Portland, Oregon 97266; facsimile (503) 231-6195; or by making an appointment to view the documents at the above address during normal business hours. You may also view the documents on the Internet through http://www.fws.gov/oregonfwo/. You may submit comments by postal mail/commercial delivery or by e-mail. If you use postal mail/commercial delivery, please address written comments to Kemper M. McMaster, State Supervisor, Fish and Wildlife Service, 2600 SE. 98th Ave., Suite 100, Portland, Oregon 97266, or facsimile (503) 231-6195. If you wish to use e-mail, address your comments to centralcoast_sha@fws.gov. Include your name and address in your comments and please refer to the TNC Central Coast SHA.

FOR FURTHER INFORMATION CONTACT: Richard Szlemp (see ADDRESSES) (503) 231-6179.

SUPPLEMENTARY INFORMATION: Under a Safe Harbor Agreement, participating landowners voluntarily undertake management activities on their property to enhance, restore, or maintain habitat benefiting species listed under the Act (16 U.S.C. 1531 et seq.). Safe Harbor Agreements, and the subsequent enhancement of survival permits that are issued pursuant to section 10(a)(1)(A) of the Act, encourage private and other non-Federal property owners to implement conservation efforts for listed species by assuring the landowners that they will not be subjected to increased property use restrictions as a result of their efforts to attract listed species to their property, or to increase the numbers or distribution of listed species already on their property. Application requirements and issuance criteria for enhancement of survival permits through Safe Harbor Agreements are found in 50 CFR 17.22(c). These permits allow any necessary future incidental take of any covered species above the mutually agreed upon baseline conditions for those species in accordance with the terms of the permit and accompanying agreement.

We have worked with TNC to develop the proposed Agreement for the conservation of the Oregon silverspot butterfly within the central coast region of Oregon, roughly between Bray Point and Big Creek. The area covered by this Agreement is about 7 miles long and within 1 mile of the coastal waters of the Pacific Ocean. Under this programmatic Agreement, individual Cooperative Agreements (CAs) between the Service, TNC, and landowner/cooperators would be developed for individuals who volunteer to engage in activities, such as habitat restoration, that are likely to benefit the Oregon silverspot butterfly and wish to become a party to the Agreement. Environmental baseline conditions would be established and would primarily be based on the presence or absence of the Oregon silverspot butterfly's larval host plant, the early blue violet (Viola adunca), prior to restoration efforts. We anticipate that the baseline conditions will in most cases be determined to be at or near zero. The landowners would then be issued a Certificate of Inclusion (CI), which would allow activities on the enrolled property that might involve incidental take of Oregon silverspot butterflies above the baseline conditions to be covered under TNC's section 10(a)(1)(A) permit. TNC and/or the landowners would implement restoration and management actions to restore and enhance coastal meadow habitat for the Oregon silverspot butterfly.

TNC has agreed to work with landowners to improve Oregon silverspot butterfly habitat by suppressing or removing invasive vegetation, planting native coastal meadow vegetation, and/or specifically enhancing early blue violet plant populations. Without the regulatory assurances provided through the Agreement, CI, and permit, landowners may otherwise be unwilling or reluctant to engage in activities that would attract federally-listed species such as the Oregon silverspot butterfly onto their properties. Additionally, the requested permit coverage would allow management activities to proceed that might result in some limited amount of take incidental to those activities that are intended to benefit the species over the term of the permit. TNC would carry out the management activities itself on private lands or work in conjunction with landowners to carry out management activities. TNC has already begun working with landowners in the area and has the expertise to carry out these types of restoration activities and advise landowners of management options to provide the desired future conditions that would benefit the Oregon silverspot butterfly. The proposed management activities are expected to provide a net conservation benefit to the Oregon silverspot butterfly within the covered area along Oregon's central coast by restoring and improving habitat conditions, potentially increasing the local butterfly population, and providing habitat patches linking butterfly populations on the south and north ends of the project area.

The Oregon silverspot butterfly was listed as a threatened species by the Service in 1980 (45 FR 44935). At the time of listing, the only known population was within an area along the Oregon coast in the vicinity of Rock Creek and Big Creek in Lane County. Additional populations were subsequently discovered at Bray Point, Cascade Head, and the Clatsop Plains in Oregon; Long Beach Peninsula in Washington; and northwestern Del Norte County, California. Succession, due to lack of disturbance from fire and grazing and the spread of non-native plants, has affected the presence and abundance of early blue violets through crowding and shading. Succession has resulted in trees, shrubs, and ferns developing within coastal grassland communities that were previously maintained by disturbances such as fire and grazing. Non-native pasture grasses that have spread and become well-established along the coast crowd out other native plants and create dense layers of vegetation that inhibit the growth of native species, including early blue violets and native nectar sources used by adult butterflies.

The Service has made a preliminary determination that the proposed Agreement and permit application are eligible for a categorical exclusion under the National Environmental Policy Act of 1969 (NEPA). We explain the basis for this determination in an Environmental Action Statement that is also available for public review (see ADDRESSES).

The Service will evaluate the permit application, associated documents, and comments submitted thereon to determine whether the permit application meets the requirements of section 10(a) of the Act and NEPA regulations. All comments received, including names and addresses, will become part of the administrative record and will be available for review pursuant to section 10(c) of the Act. Individual respondents may request that we withhold their home address from the record, which we will honor to the extent allowable by law. If you wish us to withhold your name and/or address, you must state this prominently at the beginning of your comment. Anonymous comments will not be considered. All submissions from organizations or businesses, and from individuals identifying themselves as representatives or officials of organizations or businesses, are available for public inspection in their entirety.

If we determine that all requirements are met, we will sign the Agreement and issue an enhancement of survival permit under section 10(a)(1)(A) of the Act to TNC for the take of Oregon silverspot butterflies, incidental to otherwise lawful activities in accordance with the terms of the Agreement. This notice is provided pursuant to section 10(c) of the Act and NEPA regulations (40 CFR 1506.6).

Dated: November 3, 2006.
Miel Corbett,
Acting State Supervisor, Fish and Wildlife Service, Oregon Fish and Wildlife Office, Portland, Oregon.

[FR Doc. E6-18970 Filed 11-8-06; 8:45 am]

BILLING CODE 4310-55-P